ENVIRONMENTAL PROTECTION AGENCY

[EPA-HQ-OPP-2022-0160; FRL-9409-02-OCSPP]

Pesticide Product Registration; Receipt of Applications for New Active Ingredients—February 2022

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before April 22, 2022.

ADDRESSES: Submit your comments, identified by docket identification (ID) number and the File Symbol of interest as shown in the body of this document, through the Federal eRulemaking Portal at http://www.regulations.gov. Follow the online instructions for submitting comments. Do not submit electronically any information you consider to be Confidential Business Information (CBI) or other information whose disclosure is restricted by statute. Additional instructions on commenting or visiting the docket, along with more information about dockets generally, is available at https://www.epa.gov/dockets/about-epa-dockets.

Due to the public health concerns related to COVID-19, the EPA Docket Center (EPA/DC) and Reading Room is open to visitors by appointment only. For the latest status information on EPA/DC services and access, visit https://www.epa.gov/dockets.

FOR FURTHER INFORMATION CONTACT: Charles Smith, Biopesticides and Pollution Prevention Division (BPPD) (7511P), main telephone number: (703) 305-7090, email address: BPPDFRNotices@epa.gov; or Marietta Echeverria, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications. For actions being evaluated under EPA's public participation process for registration actions, there will be an additional opportunity for public comment on the proposed decisions. Please see EPA's public participation website for additional information on this process (http://www2.epa.gov/pesticide-registration/public-participation-process-registration-actions).

A. Notice of Receipt—New Active Ingredients

1. File Symbol: 100-RTNA, 100-RTNE, 100-RTNG, 100-RTNI, 100-RTNL, 100-RTNO, 100-RTNT, 100-RTNU, 100-RTRE, 100-RTRG, 100-RTRN, 100-RTRR, 100-RTRU. Docket ID number: EPA-HQ-OPP-2021-0641. Applicant: Syngenta Crop Protection, LLC, 410 Swing Road, P.O. Box 18300, Greensboro, NC 27419-8300. Active ingredient: Insecticide—Isocycloseram at 1.0%, 98.0%, 18.3%, 34.8%, 9.35%, 1.71%, 34.8%, 0.71%, 18.3%, 9.27%, 25.7%, 34.8%, 8.26% respectively. Proposed uses: Terrestrial field and greenhouse food crop uses: Brassica head and stem vegetables (crop group 5-16); brassica leafy greens (crop subgroup 4-16B); bulb vegetable (crop group 3-07); citrus fruit (crop group 10-10); corn (field, popcorn, seed); cotton (crop subgroup 20C); cucurbit vegetables (crop group 9); fruiting vegetables (crop group 8-10); berry and small fruit crop group (crop group 13-07); tropical and subtropical fruit, edible peel group (crop group 23); tropical and subtropical fruit, inedible peel group (crop group 24); leafy greens (crop subgroup 4-16A); peanut; pome fruit (crop group 11-10); soybean, stone fruit (crop group 12-12); tree nuts (crop group 14-12); and tuberous and corm vegetables (crop subgroup 1C). Terrestrial and Greenhouse Nonfood Uses: Turfgrass (golf courses; institutional, commercial, and residential lawns and landscapes; sod farms; sports fields; parks; municipal grounds; cemeteries); ornamentals (ornamental plants, ornamental bulb, corm, and tuber crops; conifers; Christmas trees grown in greenhouses and nurseries; field and container-grown plants grown in outdoor growing structures (shade houses, lath houses and other growing structures); conifer and deciduous tree nurseries; forest nurseries; retail nurseries; outdoor ornamental plants grown in commercial and residential landscapes; parks; and interior plantscapes. Seed Treatment Uses: Cereals, small grain (barley, buckwheat, oats, pearl millet, proso millet, rye, teosinte, triticale, wheat); dried shelled pea and bean (except soybean) (crop subgroup 6C); onion, bulb (crop subgroup 3-07A); and rapeseed (crop subgroup 20A). Commercial and Industrial Uses (Indoor and Outdoor Nonfood): For use in, on, and around institutional (including schools and daycare facilities), commercial, agricultural (including livestock, poultry, and companion animal housing) and industrial facilities (including warehouses, apartments, supermarkets, restaurants, motels, hotels, hospitals, food-handling/storage/processing establishments, and zoos); and transportation equipment, such as aircraft, trains, ships, boats, and buses. Domestic Uses (Indoor and Outdoor Nonfood): For use in and around single and multifamily residential buildings. Contact: RD.

2. File Symbol: 88847-T. Docket ID number: EPA-HQ-OPP-2021-0782. Applicant: Vestaron Corporation 600 Park Offices, Suite 117, Research Triangle, NC 27709. Product name: VST-7300 (Basin). Active ingredient: Insecticide; U1-AGTX-Ta1b-QA at 8.5%. Proposed classification/Use: Insecticide. Contact: BPPD.

3. EPA Registration Number: 100506-R. Docket ID number: EPA-HQ-OPP-2022-0206. Applicant: State University of New York (SUNY) College of Environmental Science and Forestry, 1 Forestry Dr., Syracuse, NY 13210. Product name: Darling 58 American Chestnut. Active ingredient: Oxalate oxidase enzyme and the genetic material necessary for its production at 0.1144%. Proposed classification/Use: Plant-Incorporated Protectant. Contact: BPPD.

(Authority: 7 U.S.C. 136 et seq.)

Dated: March 14, 2022.
Delores Barber,
Director, Information Technology and Resources Management Division, Office of Program Support.

[FR Doc. 2022-06163 Filed 3-22-22; 8:45 am]

BILLING CODE 6560-50-P